DEPARTMENT OF COMMERCE

National Oceanic and Atmospheric Administration

RIN 0648-XG977

South Atlantic Fishery Management Council; Public Meeting

AGENCY: National Marine Fisheries Service (NMFS), National Oceanic and Atmospheric Administration (NOAA), Commerce.

ACTION: Notice of a meeting of the Regional Fishery Management Councils' (RFMC) Council Coordination Committee (CCC).

SUMMARY: The South Atlantic Fishery Management Council (SAFMC) will host a meeting of the RFMC CCC, in Charleston, SC.

DATES: The CCC meeting will be held from 1:30 p.m. on Tuesday, May 14, 2019 until 12 p.m. on Thursday, May 16, 2019.

ADDRESSES:

Meeting address: The meeting will be held at the Francis Marion Hotel, 387 King Street, Charleston, SC 29403; phone: (843) 722-0600.

Council address: South Atlantic Fishery Management Council, 4055 Faber Place Drive, Suite 201, N Charleston, SC 29405.

FOR FURTHER INFORMATION CONTACT: Kim Iverson, Public Information Officer, SAFMC; phone: (843) 302-8440 or toll free (866) SAFMC-10; fax: (843) 769-4520; email: kim.iverson@safmc.net.

SUPPLEMENTARY INFORMATION: The Council Coordination Committee (CCC) consists of the chairs, vice-chairs, and executive directors from each regional fishery management council, or their respective proxies; only council staff or council members may serve as proxies. The CCC meets twice each year to discuss issues relevant to all councils, including issues related to the implementation of the Magnuson-Stevens Act (MSA). Additional information about the regional fishery management councils and the CCC meeting is available at fisherycouncils.org.

The items of discussion for the meeting are as follows:

Tuesday, May 14, 2019; 1:30 p.m. Until 5:15 p.m.

The CCC will receive an update from NOAA Fisheries on agency priorities for Fiscal Year (FY) 2019, an overview on legislative affairs and reauthorization of the MSA, and a Legislative Work Group report. The CCC will also receive an update on aquaculture issues, Ecosystem-Based Fishery Management regional implementation, and Electronic Technology and Implementation Plans.

Wednesday, May 15, 2019; 8:30 a.m. Until 5:30 p.m.

The CCC will receive an overview of SAFMC activities, a presentation from the Atlantic Coastal Cooperative Statistics Program on the use of unique trip identifiers for fishery management purposes, an update on the Net Gains Alliance, and discuss Best Scientific Information Available (BSIA) guidance. The CCC will receive an update on the development of Geographic Plans as part of NOAA's Strategic Plan, a Management and Budget update, receive a presentation on Shifting Distributions and Changing Productivity and discuss a relevant technical memo, and discuss a proposed rule addressing Council member voting and financial disclosure. The CCC will also discuss the timing of review for the Regional Fishery Management Councils' Standard Operating, Policy and Procedures (SOPPs), technical guidance on implementing National Standard 1, and consultation with regional fishery management councils on developing U.S. positions regarding the United Nation's Convention of Law of the Sea.

Thursday, May 16, 2019; 8:30 a.m. Until 12 p.m.

The CCC will discuss continued council member and staff development for regional fishery management councils and NOAA Fisheries, receive reports from CCC sub-committees and work groups, and a report of the 33rd session of the Food and Agriculture Organization's Committee on Fisheries (COFI 33).

The CCC will discuss other business, new timing for CCC meetings, actions/wrap up from this meeting and upcoming meetings and take action as necessary.

Public comment on agenda items will be accepted at the beginning of the meeting on Tuesday, May 14, 2019. The CCC Chair, based on the number of individuals wishing to comment, will determine the amount of time provided to each commenter; total time available for all public comments will not exceed 30 minutes. Written comments will also be accepted on agenda items. Written comments should be addressed to Gregg Waugh, Executive Director, SAFMC, 4055 Faber Place Drive, Suite 201, N Charleston, SC 20405 or via email at Gregg.waugh@safmc.net. Written comments must be received by 5 p.m. on May 13, 2019 to be considered by the CCC.

Documents regarding these issues are available from http://www.fisherycouncils.org/ccc-meetings or https://www.fisheries.noaa.gov/national/partners/council-coordination-committee.

Interested persons may also contact the SAFMC office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: April 19, 2019.
Tracey L. Thompson,
Acting Deputy Director, Office of Sustainable Fisheries, National Marine Fisheries Service.

[FR Doc. 2019-08293 Filed 4-23-19; 8:45 am]

BILLING CODE 3510-22-P